DEPARTMENT OF COMMERCE

National Telecommunications and Information Administration

[Docket No. 020514121-2121-01]

RIN 0660-XX14

Request for Comment on the Effectiveness of Internet Protection Measures and Safety Policies

AGENCY: National Telecommunications and Information Administration, Department of Commerce.

ACTION: Notice; request for comments.

SUMMARY: The National Telecommunications and Information Administration (NTIA) invites interested parties to provide comments in response to section 1703 of the Children's Internet Protection Act (CIPA), Pub. L. No. 106-554, 114 Stat. 2763, 2763A-336 (2000). Section 1703 directs NTIA to initiate a notice and comment proceeding to evaluate whether currently available Internet blocking or filtering technology protection measures and Internet safety policies adequately address the needs of educational institutions. The Act also directs NTIA to make recommendations to Congress on how to foster the development of technology protection measures that meet these needs.

DATES: Written comments are requested to be submitted on or before August 27, 2002.

ADDRESSES: Comments may be mailed to Sallianne Fortunato Schagrin, Office of Policy Analysis and Development, National Telecommunications and Information Administration, Room 4716 HCHB, 14th Street and Constitution Avenue, NW., Washington, DC 20230. Paper submissions should include a diskette in HTML, ASCII, Word, or WordPerfect format (please specify version). Diskettes should be labeled with the name and organizational affiliation of the filer, and the name of the word processing program used to create the document. In the alternative, comments may be submitted electronically to the following electronic mail address: cipa-study@ntia.doc.gov. Comments submitted via electronic mail also should be submitted in one or more of the formats specified above.

FOR FURTHER INFORMATION CONTACT: Sallianne Fortunato Schagrin, Office of Policy Analysis and Development, NTIA, telephone: (202) 482-1880; or electronic mail: sschagrin@ntia.doc.gov. Media inquiries should be directed to the Office of Public Affairs, National Telecommunications and Information Administration: telephone (202) 482-7002.

SUPPLEMENTARY INFORMATION:

Growing Concern About Children's Exposure to Inappropriate Online Content

A U.S. Department of Commerce report, released earlier this year, indicates that as of September 2001 more than half of the nation's population (143 million Americans) were using the Internet. A Nation Online: How Americans Are Expanding Their Use of the Internet, National Telecommunications and Information Administration, U.S. Department of Commerce (Feb. 2002), available at http://www.ntia.doc.gov/ntiahome/dn/index.html. Children and teenagers use computers and the Internet more than any other age group. Id. at 1, 13. Almost 90 percent of children between the ages of 5 and 17 (or 48 million) now use computers. Id. at 1, 44. Significant numbers of children use the Internet at school or at school and home: 55 percent for 14-17 year olds; 45 percent for 10-13 year olds; and 22 percent for 5-9 year olds. Id. at 47. Approximately 12 percent of 10 to 17 year olds use the Internet at a library. Id. at 52. Noting the heightened interest regarding the possible exposure of children to unsafe or inappropriate content online, the Department of Commerce report notes that for the first time households were surveyed to determine the level of concern about their children's exposure to material over the Internet versus their concern over exposure to material on television. The results indicated that 68.3 percent of households were more concerned about the propriety of Internet content than material on television. Id. at 54.

Similarly, in its 2000 survey of public schools to measure Internet connectivity, the Department of Education's National Center for Education Statistics asked questions about “acceptable use policies” in schools in recognition of the concern among parents and teachers about student access to inappropriate online material. See Internet Access in U.S. Public Schools and Classrooms: 1994-2000, NCES 2001-071, Office of Education Research and Improvement, Department of Education (May 2001), available at http://www.nces.ed.gov/pubs2001/internetaccess. According to the NCES survey, 98 percent of all public schools had access to the Internet by the fall of 2000. Id. at 1. The survey also indicated that almost all such schools had “acceptable use policies” and used various technologies or procedures (blocking or filtering software), an intranet system, student honor codes, or teacher/staff monitoring to control student access to inappropriate online material. Id. at 7. Of the schools with acceptable use policies, 94 percent reported having student access to the Internet monitored by teachers or other staff; 74 percent used blocking or filtering software; 64 percent had honor codes; and 28 percent used their intranet. Id. Most schools (91 percent) used more than one procedure or technology as part of their policy: 15 percent used all of the procedures and technologies listed; 29 percent used blocking/filtering software, teacher/staff monitoring, and honor codes; and 19 percent used blocking/filtering software and teacher/staff monitoring. Id. at 7, 8. In addition, 95 percent of schools with an acceptable use policy used at least one of these technologies or procedures on all Internet-connected computers used by students. Id.

This trend appears to be reflected in the library community as well. A recent article in the Library Journal reports that of the 355 libraries responding to its Budget Report 2002, 43 percent reported filtering Internet use, up from 31 percent in 2001, and 25 percent in 2000. Norman Oder, The New Wariness, The Library Journal (Jan. 15, 2002) (LJ Budget Report 2002), available at http://libraryjournal.reviewsnews.com/index.asp?layout=articlePrint&articleID=CA188739. Of those libraries filtering Internet use, 96 percent reported using filters on all children's terminals. Id.

The E-Rate and CIPA

Section 254(h) of the Communications Act of 1934, as amended by the Telecommunications Act of 1996, provides a universal support mechanism program (commonly known as the “E-Rate program”) through which eligible schools and libraries may apply for discounted telecommunications, Internet access, and internal connections services. See 47 U.S.C. 254(h). The program is administered by the Universal Service Administrative Company(USAC) pursuant to regulations promulgated by the Federal Communications Commission. See Federal Communications Commission, Universal Service for Schools and Libraries, available at http://www.fcc.gov/wcb/universal_service/schoolsandlibs.html.

According to USAC, approximately 82 percent of public schools and 10 percent of private schools received E-rate funding in the Fiscal Year (FY)2000 funding cycle (July 1, 2000 through June 30, 2001) (using 1997 data base as denominator). See Universal Service Administrative Company, available at http://www.sl.universalservice.org. Public libraries also rely heavily on E-rate funding; 57 percent of main public libraries received E-rate funding in FY 2000. Id.; see also LJ Budget Report 2002 supra.

In October 2000, Congress passed the Children's Internet Protection Act(CIPA) as part of the Consolidated Appropriations Act of 2001 (Pub. L. No. 106-554). Under section 1721 of the Act, schools and libraries that receive discounted telecommunications, Internet access, or internal connections services under the E-rate program are required to certify and adopt an Internet safety policy and to employ technological methods that block or filter certain visual depictions deemed obscene, pornographic, or harmful to minors for both minors and adults.¹ The Federal Communications Commission implemented the required changes to the E-rate program and the new CIPA certification requirements became effective for the fourth E-rate funding year that began on July 1, 2001, and ends on June 30, 2002. See Federal-State Joint Board on Universal Service, Children's Internet Protection Act, Report and Order, CC Docket No. 96-45 (March 30, 2001), available at http://www.fcc.gov/wcb/universal_service/schoolsandlibs.html.

¹ NTIA notes that Sections 1712 and 1721 of the CIPA are currently the subject of constitutional challenge. See American Library Ass'n v. United States, No. 01-CV-1303 (E.D. Pa. March 20, 2001); Multnomah County Public Library v. United States, No. 01-CV-1322 (E.D.Pa. March 20, 2001). NTIA is not seeking comment on the constitutionality of the statute or its provisions.

Section 1703(a) of CIPA directs NTIA to initiate a notice and comment proceeding to determine if currently available blocking and filtering technologies adequately address the needs of educational institutions, make recommendations on how to foster the development of technologies that meet the needs of schools and libraries, and evaluate current Internet safety policies. Section 1703(a) of CIPA specifically provides:

Sec. 1703. Study of Technology Protection Measures

(a) IN GENERAL. B Not later than 18 months after the date of the enactment of this Act, the National Telecommunications and Information Administration shall initiate a notice and comment proceeding for purposes of—

(1) Evaluating whether or not currently available technology protection measures, including commercial Internet blocking and filtering software, adequately address the needs of educational institutions;

(2) Making recommendations on how to foster the development of measures that meet such needs; and

(3) Evaluating the development and effectiveness of local Internet safety policies that are currently in operation after community input.

Internet Blocking and Filtering Software and Acceptable Use Policies

The computer industry has developed a number of technology protection measures to block or filter prohibited content in response to the growing amount of online content. Among these measures are stand alone filters, monitoring software, and online parental controls. The Pew Internet and American Life Project reports that more than 41 percent (2 of every 5) of parents of children using the Internet rely on monitoring software or use pre-selected controls on their home computers. Pew Internet and American Life Project, The Internet and Education: Findings of the Pew Internet and American Life Project, at 5 (September 2001), available at http://www.pewinternet.org/reports/toc.asp?Report=36.

A Consumer Reports study indicated, however, that some technology protection companies refuse to disclose their method of blocking or filtering and their list of blocked sites, although users can submit Web addresses to check against blocked lists in some cases. See Digital Chaperones for Kids: Which Internet Filters Protect the Best? Which Get in the Way?, Consumer Reports at 2 (March 2001). Another report indicates that technology protection tools can require a fair amount of technical expertise in order to be manipulated successfully, such as an understanding of how to unblock sites, adjust tools for different levels of access, and examine and interpret log files. Trevor Shaw, What's Wrong with CIPA, E-School News (March 1, 2001), available at http://www.eschoolnews.com/features/cipa/cipa3.cfm.

The National Research Council (NRC) of the National Academy of Sciences recently released a report describing the social and educational strategies, technology-based tools, and legal and regulatory approaches to protect children from inappropriate material on the Internet. See Youth,Pornography, and the Internet, Committee to Study Tools and Strategies for Protecting Kids from Pornography and Their Applicability to Other Inappropriate Internet Content, National Research Council (NRC Report) (May 2, 2002), available at http://bob.nap.edu/html/youth_internet/es.html.

Among other things, the NRC Report concludes that perhaps the most important social and educational strategy for ensuring safe online experiences for children is responsible adult involvement and supervision. Id. at ES-7, 209. This strategy includes families, schools, libraries, and other organizations developing acceptable use policies to provide explicit guidelines about how individuals will conduct themselves online that will serve as a framework within which children can become more responsible for making better choices. Id. at 218. The Report notes that acceptable use policies are most effective when developed jointly with schools and communities. Id. at 219. The Report suggests that acceptable use policies are not without problems, including how to avoid the “one size fits all” problem that may arise in trying to craft a policy that is appropriate for both young children as well as teenagers. Id. at 219-220. The NRC Report also discusses the ways that technology provides parents and other responsible adults with additional choices as to how best to protect children from inappropriate material on the Internet. Id. at ES-8, 255-304. The report notes, however, that filtering/blocking tools are all imperfect in that they may “overblock” otherwise appropriate material or “underblock” some inappropriate material. Id. at 259-266.

Specific Questions

In an effort to enhance NTIA's understanding of the present state of technology protection measures and Internet safety policies, NTIA solicits responses to the following questions. NTIA requests that interested parties submit written comments on any issue of fact, law, or policy that may provide information that is relevant to this evaluation. Commenters are invited to discussany relevant issue, regardless of whether it is identified below. To the extent possible, please provide copies of studies, surveys, research, or other empirical data referenced in responses.

Evaluation of Available Technology Protection Measures

Section 1703(a)(1) of the Act requires NTIA to evaluate whether or not currently available technology protection measures, including commercial Internet blocking and filtering software, adequately address the needs of educational institutions.

1. Discuss whether available technology protection measures adequately address the needs of educational institutions.

2. Is the use of particular technologies or procedures more prevalent than others?

3. What technology, procedure, or combination has had the most success within educational institutions?

4. Please explain how the technology protection products block or filter prohibited content (such as “yes” lists, (appropriate content); “no” lists, (prohibited content), human review, technology review based on phrase or image, or other method.) Explain whether these methods successfully block or filter prohibited online content and whether one method is more effective than another.

5. Are there obstacles to or difficulties in obtaining lists of blocked or filtered sites or the specific criteria used by technology companies to deny or permit access to certain web sites? Explain.

6. Do technology companies readily add or delete specific web sites from their blocked lists upon request? Please explain your answer.

7. Discuss any factors that were considered when deciding which technology tools to use (such as training, cost, technology maintenance and upgrades or other factors.)

Fostering the Development of Technology Measures

Section 1703(a)(2) directs NTIA to initiate a notice and comment proceeding to make recommendations on how to foster the development of technology measures that meet the needs of educational institutions.

1. Are current blocking and filtering methods effectively protecting children or limiting their access to prohibited Internet activity?

2. If technologies are available but are not used by educational institutions for other reasons, such as cost or training, please discuss.

3. What technology features would better meet the needs of educational institutions trying to block prohibited content?

4. Can currently available filtering or blocking technology adjust to accommodate all age groups from kindergarten through grade twelve? Are these tools easily disabled to accommodate bona fide and other lawful research? Are these tools easily dismantled?

Current Internet Safety Policies

Section 1703(a)(3) requires NTIA to evaluate the development and effectiveness of local Internet safety policies currently in operation that were established with community input.

1. Are Internet safety policies an effective method of filtering or blocking prohibited material consistent with the goals established by educational institutions and the community? If not, please discuss the areas in which the policies do not effectively meet the goals of the educational institutions and/or community.

2. Please discuss whether and how the current policies could better meet the needs of the institutions and the community. If possible, provide specific recommendations.

3. Are educational institutions using a single technology protection method or a combination of blocking and filtering technologies?

4. Describe any best practices or policies that have been effective in ensuring that minors are protected from exposure to prohibited content.Please share practices proven unsuccessful at protecting minors from exposure to prohibited content.

Dated: May 22, 2002.
Kathy D. Smith,
Chief Counsel, National Telecommunications and Information Administration.

[FR Doc. 02-13286 Filed 5-28-02; 8:45 am]

BILLING CODE 3510-60-P